DEPARTMENT OF STATE

[Public Notice 10034]

E.O. 13224 Designation of Majelis Mujahidin Indonesia, aka MMI, aka Indonesian Mujahideen Council, aka Indonesian Mujahidin Council, aka Indonesian Mujahedeen Council, aka Indonesian Islamic Warriors' Council, aka Majilis Mujahidin Indonesia, aka Indonesia (MMI), aka Majelis Mujahidin Council, aka Laskar Mujahidin, aka Laskar Mujahidin Indonesia, aka LMI, aka Laskar Mujahidin Majelis Mujahidin, aka LM3, aka An Nisa, aka Righteous Decision-Makers as a Specially Designated Global Terrorist

Acting under the authority of and in accordance with section 1(b) of Executive Order 13224 of September 23, 2001, as amended by Executive Order 13268 of July 2, 2002, and Executive Order 13284 of January 23, 2003, I hereby determine that the entity known Majelis Mujahidin Indonesia, also known as MMI, also known as Indonesian Mujahideen Council, also known as Indonesian Mujahidin Council, also known as Indonesian Mujahedeen Council, also known as Indonesian Islamic Warriors' Council, also known as Majilis Mujahidin Indonesia, also known as Indonesia (MMI), also known as Majelis Mujahidin Council, also known as Laskar Mujahidin, also known as Laskar Mujahidin Indonesia, also known as LMI, also known as Laskar Mujahidin Majelis Mujahidin, also known as LM3, also known as An Nisa, also known as Righteous Decision-Makers committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: April 20, 2017.
Rex W. Tillerson,
Secretary of State.

[FR Doc. 2017-12428 Filed 6-15-17; 8:45 am]

BILLING CODE 4710-AD-P